ENVIRONMENTAL PROTECTION AGENCY

[FRL-7166-9]

Agency Information Collection Activities; Proposed Collection; Comment Request

AGENCY: Environmental Protection Agency (EPA).

ACTION: Notice.

SUMMARY: In compliance with the Paperwork Reduction Act (44 U.S.C. 3501 et seq.), this document announces that EPA is planning to submit the following Information Collection Request (ICR) to the Office of Management and Budget (OMB): Human Exposure to Particulates of High-risk Subpopulations; EPA ICR #: 1887.01; OMB Control # 2080-0058 Expiration Date: 7/31/2002. Before submitting the ICR to OMB for review and approval, EPA is soliciting comments on specific aspects of the proposed information collection as described below.

DATES: Comments must be submitted on or before June 3, 2002.

ADDRESSES: National Exposure Research Laboratory; US EPA; Research Triangle Park, NC 27711.

FOR FURTHER INFORMATION CONTACT: Barbara Blackwell, Phone: 919-541-2886, Fax: 919-541-1111, E-mail: blackwell.barbara@epa.gov. For Technical Information Contact Lance Wallace., Phone: 703-648-4287, Fax: 703-648-4290, E-mail: wallace.lance@epa.gov.

SUPPLEMENTARY INFORMATION: Affected entities: Entities potentially affected by this action are those individuals that may be requested to take part in a study of human exposure to airborne particles.

Title: Human Exposure to Particulates in High-Risk Subpopulations, EPA ICR #: 1887.01, OMB Control Number: 2080-0058, Expires July 31, 2002.

Abstract: This information collection has been fully described in an earlier Federal Register notice of March 5, 1999 (63 FR 69073). Briefly, because of epidemiological studies relating daily mortality to fluctuations in outdoor particle concentrations, it has been deemed desirable by EPA and the National Academy of Sciences to determine the relationship between exposure of high-risk subpopulations and ambient concentrations of particles. Three cooperative agreements were awarded to University consortia to pursue studies of persons with respiratory and cardiovascular problems. Under the terms of the agreements, personal, indoor and outdoor measurements of particle concentrations were to have been performed on a voluntary sample of residents of six cities. To help determine activities and conditions leading to increased exposure, each resident was to answer a questionnaire and fill out a time-activity daily diary, both of which have been approved by OMB. Two of the Universities have completed their field work, but the third will still be completing its planned field work past the expiration date of the OMB-approved questionnaire. This action is simply to extend the approval to use this questionnaire beyond the July 31, 2002 expiration date. No new burden beyond what has been already approved is planned. All responses to the questionnaire are voluntary. The information will be used to support the Agency's regulatory responsibilities under the Clean Air Act. An agency may not conduct or sponsor, and a person is not required to respond to, a collection of information unless it displays a currently valid OMB control number. The OMB control numbers for EPA's regulations are listed in 40 CFR part 9 and 48 CFR Chapter 15. The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The cost and hour burden on respondents has been fully described in the previous Federal Register notice. Since this request is only for an extension without any new information collection, the cost and burden detailed previously is unchanged. Briefly, the burden on the average respondent is estimated to be about 36 minutes per day filling out the questionnaire and time-activity diary. The cost to the respondent includes electricity to operate the monitors. This cost is repaid by the government, and the respondent also receives a small monetary award to repay him or her for other costs. A total of no more than 50 respondents will be enrolled in the months following the original expiration date of July 31, 2002.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 21, 2002.
Jewel F. Morris,
Acting Deputy Director or the National Exposure Research Laboratory.

[FR Doc. 02-7943 Filed 4-1-02; 8:45 am]

BILLING CODE 6560-50-P